DEPARTMENT OF COMMERCE

Foreign-Trade Zones Board

[Docket 24-2003]

Foreign-Trade Zone 43—Battle Creek, MI; Application for Subzone; Perrigo Company (Pharmaceutical Products); Allegan and Muskegon Counties, MI

An application has been submitted to the Foreign-Trade Zones Board (the Board) by the City of Battle Creek, Michigan, grantee of FTZ 43, requesting special-purpose subzone status for the pharmaceutical manufacturing and distribution facilities of Perrigo Company (Perrigo) at locations in Allegan and Muskegon Counties, Michigan. The application was submitted pursuant to the provisions of the Foreign-Trade Zones Act, as amended (19 U.S.C. 81a-81u), and the regulations of the Board (15 CFR part 400). It was formally filed on May 13, 2003.

Perrigo's Michigan operation is comprised of five sites in Allegan and Muskegon Counties (Site 5 only): Site 1 (119,700 sq. ft. on 4.5 acres)—Plant #1, located at 117 Water Street, Allegan; Site 2 (133 acres)—Eastern Avenue Site, located at Hooker Road and Eastern Avenue in Allegan; including Plant #4 (198,597 sq. ft., with a possible expansion of 100,000 sq. ft., on 4.6 acres), Plant #5 (323,568 sq. ft. with a possible expansion of 100,000 sq. ft., on 7.4 acres), and Plant #7 (402,216, sq. ft. on 9.23 acres); Site 3 (520,613 sq. ft. on 11.95 acres)—Allegan Logistics Center, located at 900 Industrial Center, Allegan; Site 4 (123,295 sq. ft., with a possible expansion of 200,000 sq. ft., on 2.8 acres)—Airport Center, located at 1761 Airport Court, Holland; and, Site 5 (87,048 sq. ft. on 2 acres)—North Labs, located at 8060 Whitbeck Road, Montague, Muskegon County.

The facilities (2,800 employees) produces over-the-counter (OTC) pharmaceutical and nutritional products. Foreign-sourced materials will account for some 14-50 percent of finished product value, and include items from the following general categories: Animal or vegetable oils, chemically pure sugars, protein concentrates, natural magnesium phosphates and carbonates, petroleum jelly, paraffin and waxes, other inorganic acids or compounds of nonmetals, artificial corundum, aluminum oxide, aluminum hydroxide, acyclic hydrocarbons, derivatives of phenols or peroxides, ethers and ether-alcohols, acetals and hemiacetals, aldehydes and derivatives, ketone function compounds, phosphoric esters and their salts, esters of other organic acids, amine function compounds, oxygen function compounds, quaternary ammonium salts, carboxymide function compounds, nitrile compounds, diazo-compounds, organic derivatives of hydrazine, compounds of other nitrogen function, organo-sulfur compounds, heterocyclic compounds, sulfonamides, provitamins, hormones, glycosides, vegetable alkaloids, antibiotics, medicaments in bulk or in measured doses, synthetic coloring matter, color lakes, organic surface active products for use in soap, dextrines and modified starches, chemical products not provided elsewhere, vinyl acetate polymers, acrylic polymers, cellulose, and natural polymers, such as alginic acid.

Zone procedures would exempt Perrigo from Customs duty payments on foreign materials used in production for export. Some two percent of the plant's shipments are currently exported. On domestic sales, the company would be able to choose the duty rates that apply to the finished products (primarily duty-free), rather than the duty rates that would otherwise apply to the foreign-sourced materials noted above (duty-free to 10.9 percent). At the outset, zone savings would primarily involve choosing the finished product duty rate on either bulk or dosage packaged pharmaceutical products (HTSUS 3003 and 3004, duty-free), instead of the duty rates on aspirin (HTSUS 2918.22.1000, 6.9%), acetaminophen (HTSUS 2924.29.6210, 6.5%), and ibuprofen (HTSUS 2916.39.1500, 6.5%). Certain aspirin imports from China are subject to anti-dumping/countervailing (AD/CVD) duties. The application indicates that the savings from zone procedures will help improve the plant's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is [60 days from date of publication]. Rebuttal comments in response to material submitted during the foregoing period may be submitted during the subsequent 15-day period (to August 5, 2003).

A copy of the application and accompanying exhibits will be available for public inspection at the Office of the Foreign-Trade Zones Board's Executive Secretary at address Number 1 listed above, and at the U.S. Department of Commerce Export Assistance Center, 401 W. Fulton St., Suite 309-C, Grand Rapids, Michigan 49504.

Dated: May 14, 2003.
Dennis Puccinelli,
Executive Secretary.

[FR Doc. 03-12877 Filed 5-21-03; 8:45 am]

BILLING CODE 3510-DS-P